DEPARTMENT OF HOMELAND SECURITY

Coast Guard

46 CFR Parts 1, 10, 11, 12, 13, 14, and 15

[Docket No. USCG-2004-17914]

RIN 1625-AA16

Implementation of the Amendments to the International Convention on Standards of Training, Certification and Watchkeeping for Seafarers, 1978, and Changes to Domestic Endorsements

AGENCY: Coast Guard, DHS.

ACTION: Notice of public meetings; request for comments.

SUMMARY: The Coast Guard is announcing a series of public meetings to receive comments on a supplemental notice of proposed rulemaking (SNPRM) entitled “Implementation of the Amendments to the International Convention on Standards of Training, Certification and Watchkeeping for Seafarers, 1978, and Changes to Domestic Endorsements” that published in the Federal Register on August 1, 2011. The changes proposed in the SNPRM address the comments received from the public in response to a previously published Notice of Proposed Rulemaking, in most cases through revisions based on those comments, and propose to incorporate the 2010 amendments to the STCW Convention that will come into force on January 1, 2012.

DATES: Public meetings will be held on the following dates:

• Monday, August 22, 2011, in Miami, FL from 9 a.m. until noon;

• Wednesday, August 24, 2011, in New Orleans, LA from 9 a.m. until noon;

• Friday, August 26, 2011, in Seattle, WA from 9 a.m. until noon;

• Wednesday, September 7, 2011, in Washington, DC from 10 a.m. until 1 p.m.

Written comments and related material may also be submitted to Coast Guard personnel specified at those meetings for inclusion in the official docket for this rulemaking. The comment period for the SNPRM closes on September 30, 2011. All comments and related material submitted after the meeting must either be submitted to our online docket via http://www.regulations.gov on or before September 30, 2011 or reach the Docket Management Facility by that date.

ADDRESSES: The public meetings will be held at the following locations:

• Monday, August 22, 2011, Miami Airport Marriott, 1201 NW Le Jeune Road, Building A, Miami, FL 33126.

• Wednesday, August 24, 2011, Hilton Garden Inn Hotel New Orleans, French Quarter/Central Business District, 821 Gravier Street, New Orleans, LA 70112.

• Friday, August 26, 2011, The Edgewater Hotel Noble House Hotels & Resorts, 2411 Alaskan Way, Pier 67, Seattle, WA 98121.

• Wednesday, September 7, 2011 at United States Coast Guard Headquarters Building, Room 2501, 2100 Second Street, SW., Washington, DC 20593 from 10 a.m. until 1 p.m. Note: A government-issued photo identification (for example, a driver's license) will be required for entrance to the building.

Live webcasts (audio and video) of the three public meetings to be held in Miami, FL, New Orleans, LA, and Seattle, WA, will also be broadcast online. The Web site for viewing those webcasts can be found at http://www.stcwregs.us. The webcasts will enable those using this feature only to view the proceedings and not to make remarks to those participating in the meetings in person. However, a verbatim record of these public meetings will be provided in the docket.

You may submit written comments identified by docket number USCG-2004-17914 before or after the meetings using any one of the following methods:

• Federal eRulemaking Portal: http://www.regulations.gov. Follow the instructions for submitting comments (preferred method to avoid delays in processing).

• Fax: 202-372-1918.

• Mail: Docket Management Facility (M-30), U.S. Department of Transportation, West Building Ground Floor, Room W12-140, 1200 New Jersey Avenue, SE., Washington, DC 20590-0001.

• Hand delivery: Same as mail address above, between 9 a.m. and 5 p.m., Monday through Friday, except Federal Holidays. The telephone number is 202-366-9329.

Docket: For access to the docket to read documents or comments related to this notice, go to http://www.regulations.gov.

FOR FURTHER INFORMATION CONTACT: If you have questions on this proposed rulemaking, call or e-mail Mr. Rogers Henderson, Maritime Personnel Qualifications Division, U.S. Coast Guard, telephone 202-372-1408, e-mail: Rogers.W.Henderson@uscg.mil. If you have questions on viewing or submitting material to the docket, call Ms. Renee V. Wright, Program Manager, Docket Operations, telephone 202-366-9826.

SUPPLEMENTARY INFORMATION:

Background and Purpose

In 2007, the International Maritime Organization (IMO) embarked on a comprehensive review of the entire STCW Convention and STCW Code. The Coast Guard held public meetings prior to each one of the IMO meetings in London for the review to determine what positions U.S. delegations should advocate and to exchange views about amendments to STCW that were under discussion. In addition, the Coast Guard also took advantage of advisory committee meetings, specifically Merchant Personnel Advisory Committee (MERPAC), to discuss developments and implementation of the requirements relating to the 2010 amendments. The 2010 amendments resulting from that review were adopted on June 25, 2010. The Convention is not self-implementing; therefore, the United States, as a signatory to the STCW Convention, must initiate regulatory changes to ensure full implementation of amendments to the STCW Convention and STCW Code.

The Coast Guard proposed, in an SNPRM published in the Federal Register on August 1, 2001, to implement these provisions, and to clearly separate the two licensing schemes for STCW and domestic endorsements, pursuant to the Convention and under the authority of Title 46, United States Code, section 2103 and chapters 71 and 73.

Parties to the STCW Convention have port state control authority to detain vessels that do not appear to be in compliance with the Convention. If U.S. regulations are non-compliant with the STCW Convention and STCW Code, there is a risk that U.S. ships will be detained in foreign ports by member nations and that U.S. mariners would not be able to seek employment on foreign flag vessels.

Instructions for Submitting Comments

All submissions received must include the words “Department of Homeland Security” and the docket number for this action. Comments received will be posted without alteration at http://www.regulations.gov, including any personal information provided. You may review a Privacy Act notice regarding our public dockets in the January 17, 2008, issue of the Federal Register (73 FR 3316).

Information on Service for Individuals With Disabilities

For information on facilities or services for individuals with disabilities or to request special assistance at the public meetings, contact Mr. Rogers Henderson at the telephone number or e-mail address indicated under the FOR FURTHER INFORMATION CONTACT section of this notice.

Dated: July 27, 2011.
J.G. Lantz,
Director of Commercial Regulations and Standards.

[FR Doc. 2011-19459 Filed 8-1-11; 8:45 am]

BILLING CODE 9110-04-P